DEPARTMENT OF STATE

[Public Notice: 12269]

U.S. Advisory Commission on Public Diplomacy; Meeting

ACTION: Notice of meeting.

SUMMARY: The U.S. Advisory Commission on Public Diplomacy (ACPD) will hold an in-person public meeting with online (Zoom) access. The meeting will focus on the integration of diversity, equity, inclusion, and accessibility (DEIA) principles into U.S. government public diplomacy programming abroad, based on a forthcoming ACPD special report titled “Public Diplomacy and DEIA Promotion: Telling America's Story to the World.” A panel of experts will discuss the opportunities and challenges associated with engaging global audiences on these important issues. This meeting is open to the public, including the media and members and staff of governmental and non-governmental organizations.

DATES: Tuesday, December 12, 2023, 12 p.m. until 1:15 p.m.

ADDRESSES: The event will take place at the U.S.C. Annenberg Center on Communication Leadership and Policy, University of Southern California, 1771 N St. NW, Washington, DC 20036.

To register for the event, please go to https://iipstate.my.site.com/CRMEventRegistration/s/registration-page?event=JtfG7kPP_m2ijMppK2bGeUsBccisxjOvvk_71TntFbk_.

Doors will open at 11:30 a.m.

FOR FURTHER INFORMATION CONTACT: To request reasonable accommodation, please email ACPD Program Assistant Kristy Zamary at ZamaryKK@state.gov; phone at 202-351-9284. Please send any request for reasonable accommodation no later than Tuesday, November 28, 2023. Requests received after that date will be considered but might not be possible to fulfill.

SUPPLEMENTARY INFORMATION: Since 1948, the ACPD has been charged with appraising activities intended to understand, inform, and influence foreign publics and to increase the understanding of, and support for, these same activities. The ACPD conducts research that provides honest assessments of public diplomacy efforts, and disseminates findings through reports, white papers, and other publications. It also holds public symposiums that generate informed discussions on public diplomacy issues and events. The Commission reports to the President, Secretary of State, and Congress and is supported by the Office of the Under Secretary of State for Public Diplomacy and Public Affairs.

For more information on the U.S. Advisory Commission on Public Diplomacy, please visit https://www.state.gov/bureaus-offices/under-secretary-for-public-diplomacy-and-public-affairs/united-states-advisory-commission-on-public-diplomacy, or contact Executive Director Vivian S. Walker at WalkerVScommat;state.gov or Senior Advisor Jeff Ridenour at RidenourJM@state.gov.

(Authority: 22 U.S.C. 2651a, 22 U.S.C. 1469, 5 U.S.C. 1001 et seq., and 41 CFR 102-3.150)

Jeffrey M. Ridenour,
Senior Advisor, U.S. Advisory Commission on Public Diplomacy, Department of State.

[FR Doc. 2023-25909 Filed 11-22-23; 8:45 am]

BILLING CODE 4710-45-P